DEPARTMENT OF DEFENSE

Office of the Secretary

[Transmittal No. 17-68]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-68 with attached Policy Justification.

Dated: December 20, 2017.
Aaron Siegel,
Alternate OSD Federal Register Liaison Officer, Department of Defense.

Transmittal No. 17-68

Notice of Proposed Issuance of Letter of Offer Pursuant to Section 36(b)(1) of the Arms Export Control Act, as amended

(i) Prospective Purchaser: Government of Poland

(ii) Total Estimated Value:

Major Defense Equipment * | $0 million
Other | 200 million
Total | 200 million

(iii) Description and Quantity or Quantities of Articles or Services Under Consideration for Purchase:

Major Defense Equipment (MDE): None

Non-MDE:

Follow-on support and sustainment services for Poland's F-16 fleet to include aircraft maintenance; system and software overhauls and upgrades; engine support; spare and repair parts; support and test equipment; publications and technical documentation; U.S. Government and contractor engineering, technical, and logistical support; and other related elements of program support.

(iv) Military Department: Air Force (PL-D-QAW)

(v) Prior Related Cases, if any: PL-D-QAO, PL-D-QAP, and PL-D-QAI

(vi) Sales Commission, Fee, etc., Paid, Offered, or Agreed to be Paid: None

(vii) Sensitivity of Technology Contained in the Defense Article or Defense Services Proposed to be Sold: None

(viii) Date Report Delivered to Congress: December 19, 2017

* As defined in Section 47(6) of the Arms Export Control Act.

POLICY JUSTIFICATION

Poland—F-16 Follow-on Support

The Government of Poland has requested to purchase follow-on support and sustainment services for its F-16 fleet to include aircraft maintenance; system and overhauls and upgrades; engine support; spare and repair parts; support and test equipment; publications and technical documentation; U.S. Government and contractor engineering, technical, and logistical support; and other related elements of program support. The estimated cost is $200 million.

This proposed sale will support the foreign policy and national security objectives of the United States by helping to improve the security of a NATO ally. Poland continues to be an important force for political stability and economic progress in Central Europe.

This potential sale will continue the sustainment of Poland's F-16 capability. Poland will have no difficulty absorbing this equipment and support into its armed forces.

The proposed sale of this equipment and support will not alter the basic military balance in the region.

Contracts will be awarded when necessary to provide the defense articles ordered if items ordered are not available from U.S. stock or are to be purchased further in the future. The potential prime contractors will be Harris Corporation of Melbourne, Florida; Boeing of Arlington, Virginia; UTC Aerospace Systems, ISR Systems of Charlotte, North Carolina; Lockheed Martin Missile and Fire Control of Orlando, Florida; Cubic Defense Applications of San Diego, California; L-3 Communications of New York, New York; Lockheed Martin Aero of Fort Worth, Texas; Exelis Electronic of Clifton, New Jersey; Northrop Grumman Corporation of Falls Church, Virginia; Raytheon of Waltham, Massachusetts; Honeywell of Morris Plains, New Jersey; Booz Allen Hamilton of McLean, Virginia; and BAE Systems of Arlington, Virginia. There are no known offset agreements proposed in connection with this potential sale.

Implementation of this proposed sale will not require the assignment of any additional U.S. Government or contractor representatives to Poland.

There will be no adverse impact on U.S. defense readiness as a result of this proposed sale.

[FR Doc. 2017-27841 Filed 12-26-17; 8:45 am]

BILLING CODE 5001-06-P